ENVIRONMENTAL PROTECTION AGENCY

40 CFR Part 52

[EPA-R07-OAR-2014-0448; FRL-9918-18-Region-7]

Air Quality State Implementation Plans; Approval and Promulgation: Missouri; 2013 State Implementation Plan for the 2008 Lead Standard

AGENCY: Environmental Protection Agency.

ACTION: Final rule.

SUMMARY: The Environmental Protection Agency (EPA) is taking final action to approve a revision to the State Implementation Plan (SIP) for the State of Missouri. This final action will approve Missouri's SIP for the lead National Ambient Air Quality Standard (NAAQS) nonattainment area of Herculaneum, Missouri. EPA proposed approval of this plan on July 24, 2014. The applicable standard addressed in this action is the lead NAAQS promulgated by EPA in 2008. EPA believes Missouri's SIP satisfies the applicable requirements of the Clean Air Act (CAA) identified in EPA's 2008 Final Rule and will bring the area into attainment of the 0.15 micrograms per cubic meter (ug/m³) lead NAAQS in the Herculaneum, Missouri area.

In this action, EPA is also finalizing its approval of a revision to the Missouri SIP related to the 2007 Consent Judgment which was previously approved into the Missouri SIP for the 1978 lead NAAQS.

DATES: This final rule is effective on November 19, 2014.

ADDRESSES: EPA has established a docket for this action under Docket ID No. EPA-R07-OAR-2014-0448. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Environmental Protection Agency, Air Planning and Development Branch, 11201 Renner Boulevard, Lenexa, Kansas 66219. The Regional Office's official hours of business are Monday through Friday, 8:00 to 4:30 excluding Federal holidays. The interested persons wanting to examine these documents should make an appointment with the office at least 24 hours in advance.

FOR FURTHER INFORMATION CONTACT: Stephanie Doolan, Environmental Protection Agency, Air Planning and Development Branch, 11201 Renner Boulevard, Lenexa, Kansas 66219 at 913-551-7719, or by email at doolan.stephanie@epa.gov.

SUPPLEMENTARY INFORMATION: Throughout this document “we,” “us,” or “our” refer to EPA. This section provides additional information by addressing the following:

I. What is being addressed in this document?

II. Have the requirements for approval of a SIP revision been met?

III. EPA's Response to Comments

IV. What action is EPA taking?

I. What is being addressed in this document?

In this document, EPA is granting final approval of Missouri's SIP for the lead NAAQS nonattainment area of Herculaneum, Missouri. The applicable standard addressed in this action is the lead NAAQS promulgated by EPA in 2008 (73 FR 66964). EPA is also granting final approval to a revision to the Missouri SIP related to the 2007 Consent Judgment which was previously approved in the Missouri SIP as for the 1978 lead NAAQS (77 FR 9529, February 17, 2012). EPA's proposal containing the background information for this action can be found at 79 FR 42991, July 24, 2014.

II. Have the requirements for approval of a SIP revision been met?

The state submission has met the public notice requirements for SIP submissions in accordance with 40 CFR 51.102. The submission also satisfied the completeness criteria of 40 CFR part 51, appendix V. In addition, as explained above and in more detail in the technical support document which is part of this document, the revision meets the substantive SIP requirements of the CAA, including Section 110 and implementing regulations.

III. EPA's Response to Comments

The public comment period on EPA's proposed rule opened July 24, 2014, the date of its publication in the Federal Register, and closed on August 25, 2014. During this period, EPA received one comment.

Comment 1: The commenter notes that the modeling shows that Missouri's SIP will bring the area into attainment. The commenter states that should lead concentration measurements show that the SIP is not producing the modeled reductions in lead (or better) that the commenter would no longer support the strategy and suggests that at that time a revised plan be created and implemented.

Response 1: EPA agrees that the modeling shows that Missouri's SIP will bring the area into attainment. EPA notes that if the measures in the SIP are not maintaining attainment of the lead NAAQS that the SIP includes contingency measures that will be implemented to ensure additional reductions are achieved and that the area maintains the NAAQS. The contingency measures are described in detail in the proposal to this action 79 FR 42991. If implementation of the contingency measures does not bring the area back into attainment, section 110 of the CAA authorizes EPA to take appropriate action to ensure the area will attain and maintain the 2008 lead NAAQS.

IV. What action is EPA taking?

EPA is taking final action to amend the Missouri SIP to approve Missouri's SIP for the lead NAAQS nonattainment area of Herculaneum, Missouri. The applicable standard addressed in this action is the lead NAAQS promulgated by EPA in 2008 (73 FR 66964). EPA is also granting final approval to a revision to the Missouri SIP related to the 2007 Consent Judgment which was previously approved in the Missouri SIP for the 1978 lead NAAQS (77 FR 9529, February 17, 2012).

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011).

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 19, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 29, 2014.
Becky Weber,
Acting Regional Administrator, Region 7.

For the reasons stated in the preamble, the Environmental Protection Agency amends 40 CFR part 52 as set forth below:

PART 52—APPROVAL AND PROMULGATION OF IMPLEMENTATION PLANS

1. The authority citation for part 52 continues to read as follows:

Authority: 42 U.S.C. 7401 et seq.

Subpart AA—Missouri

2. In § 52.1320:

a. Amend the table in paragraph (d) by adding two entries at the end of the table in numerical order; and

b. Amend the table in paragraph (e) by adding an entry at the end of the table in numerical order.

The amendments read as follows:

§ 52.1320 Identification of plan.

* * * * *

(d) * * *

EPA-Approved Missouri Source-Specific Permits and Orders
Name of source | Order/permit number | State effective date | EPA approval date | Explanation
* * * * * * *
(27) Doe Run Herculaneum, MO | Consent Judgment Modification 07JE-CC00552; | 10/19/11 | 10/20/14 and [Insert Federal Register citation] | Modification to section 2.B.1. of the 2007 Consent Judgment.
(28) Doe Run Herculaneum, MO | Consent Judgment 13JE-CC00557 | 6/19/13 | 10/20/14 and [Insert Federal Register citation]

* * * * *

(e) * * *

EPA-Approved Missouri Nonregulatory SIP Provisions
Name of nonregulatory SIP provision | Applicable geographic or nonattainment area | State submittal date | EPA approval date | Explanation
* * * * * * *
(62) Implementation Plan for the 2008 Lead NAAQS | City of Herculaneum, MO | 4/18/13 | 10/20/14 and [Insert Federal Register citation]

[FR Doc. 2014-24759 Filed 10-17-14; 8:45 am]

BILLING CODE 6560-50-P